DEPARTMENT OF ENERGY

Environmental Management Site-Specific Advisory Board, Idaho National Laboratory

AGENCY: Department of Energy.

ACTION: Notice of Open Meeting Correction.

On August 31, 2006, the Department of Energy published a notice of open meeting announcing a meeting of the Environmental Management Site-Specific Advisory Board, Idaho National Laboratory 71 FR 51809. In that notice, the meeting was scheduled for September 19, 2006 from 8 a.m.-6 p.m. and September 20, 2006 from 8 a.m.-6 p.m. In that notice, the opportunities for public participation on September 20, 2006 was scheduled from 11:45 to 12 p.m. Today's notice is announcing that the meeting will be September 19, 2006 from 8 a.m.-5 p.m. and September 20, 2006 from 8 a.m.-3 p.m.

The opportunities for public participation on September 20, 2006 will be from 9 to 9:15 a.m. In addition, two agenda topics are being added: Low-Level Waste Management, and Decontamination and Decommissioning of Sitewide Facilities (Engineering Evaluation/Cost Analysis).

Issued in Washington, DC on September 11, 2006.
Rachel M. Samuel,
Deputy Advisory Committee Management Officer.

[FR Doc. E6-15267 Filed 9-13-06; 8:45 am]

BILLING CODE 6450-01-P